DEPARTMENT OF DEFENSE

Department of the Navy

Notice of Intent To Prepare an Environmental Impact Statement (EIS) for the Proposed Extension of Kilo Wharf, Apra Harbor Naval Complex, Guam and To Announce Public Scoping Meetings

AGENCY: Department of the Navy, DOD.

ACTION: Notice.

SUMMARY: Pursuant to Section 102(2)(c) of the National Environmental Policy Act (NEPA) of 1969, as implemented by the Council on Environmental Quality regulations (40 CFR parts 1500-1508), the Department of the Navy (Navy) announces its intent to prepare an EIS to evaluate the potential environmental impacts associated with the proposed extension of Kilo Wharf located in the Apra Harbor Naval Complex, Guam to support the new T-AKE class multi-purpose dry cargo/ammunition ship.

The mission of Commander Navy Region Marianas (COMNAVREGMARIANAS) is to provide operational, fuel re-supply, ordnance, and other logistic support to Fleet units of the Pacific Region and operating forces of the Fifth (5th) and Seventh (7th) Fleets. Guam is the westernmost U.S. military installation on U.S. soil and is located 1,500 miles from the western rim of the Pacific. The location of Guam allows for rapid deployment of ammunition to areas of conflict in the Western Pacific Region. Because ocean transport is the most cost effective means of shipping ammunition, Guam must maintain a wharf that can efficiently accommodate modern ammunition ships. This project is required to improve COMNAVREGMARIANAS’ capability to accomplish its mission.

The EIS will consider alternatives to expand or replace Kilo Wharf to meet the operational requirements of the T-AKE as well as the No Action alternative.

DATES: Public scoping meetings will be held in Santa Rita, Guam and Tumon Bay, Guam, to receive oral and/or written comments on environmental concerns that should be addressed in the EIS. The public meetings will be held on:

1. Tuesday, August 30, 2005, 6 p.m.-9 p.m., Guam Hilton, 202 Hilton Road, Tumon Bay, Guam 96913.

2. Wednesday, August 31, 2005, 6 p.m.-9 p.m., Santa Rita Community Center, 183 A. B. Wonpat Lane, Santa Rita, Guam 96915.

FOR FURTHER INFORMATION CONTACT: Ms. Nora Macariola-See, Code EV31NM, Naval Facilities Engineering Command, Pacific, 258 Makalapa Drive Suite 100, Pearl Harbor, HI 96860-3134, 808-472-1402, Fax 808-474-5419, E-mail at: kiloeis@navy.mil.

SUPPLEMENTARY INFORMATION: The Proposed Action is to provide adequate berthing facilities to support the new T-AKE multi-purpose ship. The purpose and need for the action is to ensure Kilo Wharf will continue to provide ammunition on-loading and off-loading capability in direct support of the Department of Defense strategic forward power projection and maintain the readiness posture of the Navy's operating forces in the Western Pacific Region.

Kilo Wharf was originally constructed to provide a facility for loading and unloading of ammunition to and from commercial and Navy ships. It has been and continues to be a critical infrastructure for the berthing of ammunition ships in the Western Pacific Region making port visits to Guam in support of the Navy's ordnance supply and readiness mission.

The T-AKE is a new multi-purpose Naval ship, which will replace the Kilauea Class (AE) ammunition ship, Marshall Class (AFS) supply ship, and Sacramento Class (AOE) combat logistic support ships by 2009. The T-AKE ships will load supplies from ports or at sea from commercial ships and will transfer these supplies at sea to the ships of the Navy's operating forces. The length of the existing Kilo Wharf, which is 400 feet, is not adequate to accommodate berthing of the T-AKE. The T-AKE is 689 feet in length, and would require 800 feet for adequate berthing. Other transient ships that utilize Kilo Wharf include certain logistic and surface combatant ships. The proposed extension or replacement of Kilo Wharf will provide for adequate berthing facilities to support the T-AKE. The increased length would also improve berthing support for transient ships that utilize the wharf.

The Navy will consider reasonable alternative configurations to expand or replace Kilo Wharf as well as the No Action alternative. Alternatives to be considered include: (1) Expand the wharf approximately 400 feet to the west; (2) Expand the wharf approximately 400 feet to the east; (3) Expand the wharf a total of 400 feet to the east and west; (4) Construct a new wharf approximately 800 feet in length inland from the existing wharf; (5) Construct a new wharf approximately 800 feet in length that is perpendicular to the existing wharf; and (6) No Action. All of the alternatives, except the No Action, would require dredging to install the new wharf caissons. A caisson is a pre-fabricated hollow concrete box with an open top. The caissons will be the foundation for the wharf's concrete deck. With Alternative 4, the existing wharf will be demolished and replaced with a new wharf. The volume of dredged materials for Alternatives 1, 2, and 3 is approximately 66,000 cubic yards. Alternative 4 would have more dredged materials while Alternative 5 would have less dredged materials. All alternatives may require temporary mooring islands to allow for ship berthing during construction. The temporary mooring islands will be removed when construction is completed. The EIS will evaluate the potential environmental impacts associated with the permanent extension or replacement of Kilo Wharf. Impact areas and issues to be addressed will include, but are not limited to, the following resource areas: Coral reefs, marine and terrestrial natural resources, including threatened and endangered species, water quality, fishing, navigation, recreation, historical/cultural, and socioeconomics. The EIS will include an evaluation of the project's direct, indirect, short-term, long term, and cumulative impacts. Construction for the project is anticipated to start by October 2007. The estimated date of construction completion, including dredging, is October 2010.

The Navy is initiating the scoping process to identify community concerns and issues that should be addressed in the EIS. Federal agencies, government of Guam agencies, the public, and other interested parties are encouraged to provide oral and/or written comments to the Navy to identify specific issues or topics of environmental concern for consideration in the EIS. The Navy will consider these comments in determining the scope of the EIS.

Written comments on the scope of the EIS should be submitted by September 9, 2005, and should be mailed to: Ms. Nora Macariola-See, Code EV31NM, Naval Facilities Engineering Command, Pacific, 258 Makalapa Drive Suite 100, Pearl Harbor, HI 96860-3134, 808-472-1402, Fax 808-474-5419, E-mail at: kiloeis@navy.mil

Dated: July 25, 2005.
I.C. Le Moyne Jr.,
Lieutenant, Judge Advocate General's Corps, U.S. Navy, Alternate Federal Register Liaison Officer.

[FR Doc. 05-15002 Filed 7-28-05; 8:45 am]

BILLING CODE 3810-FF-U